NEIGHBORHOOD REINVESTMENT CORPORATION

Sunshine Act Meetings

TIME AND DATE: 2:15 p.m., Thursday, February 19, 2026.

PLACE: via ZOOM.

STATUS: Parts of this meeting will be open to the public. The rest of the meeting will be closed to the public.

MATTERS TO BE CONSIDERED:

Regular Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Action Item: Resolution to Elect a Temporary Board Chair

III. Sunshine Act Approval of Executive (Closed) Session

IV. Executive Session: CEO Report

V. Executive Session: CFO Report

VI. Action Item: Approval of Meeting Minutes for December 18, 2025 Regular Board Meeting

VII. Action Item: Approval of Changes to the FY2025/2026 Internal Audit Plan

VIII. Discussion Item: Health Insurance Special Delegation

IX. Discussion Item: Salesforce Licensing Contract

X. Discussion Item: Management Program Background and Updates

a. General Counsel Report

b. CIO Report

c. 2026 Board Calendar

d. 2026 Board Agenda Planner

e. CFO Report

i. Financials (through 11/30/25)

ii. Single Invoice Approvals $100K and over

iii. Vendor Payments $350K and over

iv. Exceptions

f. FY25-FY27 SP Scorecard—Q4

g. Network Watchlist Report

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2026-04241 Filed 3-2-26; 11:15 am]

BILLING CODE 7570-01-P